DEPARTMENT OF ENERGY

Federal Energy Regulatory Commission

[Project No. 6662-006]

City of St. George; Notice of Availability of Environmental Assessment

July 19, 2005.

In accordance with the National Environmental Policy Act of 1969 and the Federal Energy Regulatory Commission's (Commission) regulations, 18 CFR part 380 (Order No. 486, 52 FR 47897), the Office of Energy Project's staff has prepared an Environmental Assessment (EA) for the City of St. George's application requesting Commission approval to surrender the exemption for the Lower Gunlock Hydroelectric Project, FERC No. 6662. The project is located on the Santa Clara River in Washington County, Utah. The project does not occupy any tribal or Federal lands.

The EA concludes the staff's analysis of the potential environmental impacts of the proposal and concludes that approval of the surrender would not constitute a major Federal action significantly affecting the quality of the human environment.

A copy of the EA is attached to a Commission Order entitled Order Modifying and Accepting Surrender of Exemption issued on July 15, 2005 (112 FERC ¶ 62,034) which is available for review at the Commission's Web site at http://www.ferc.gov using the eLibrary link. Enter the docket number (Prefaced by P-) and excluding the last three digits, in the docket number field to access the document. For assistance please contact FERC Online Support at FERCOnlineSupport@ferc.gov or call toll-free 866-208-3676, or, for TTY, contact (202) 502-8659.

For further information, contact Kate DeBragga at (202) 502-8961.
Magalie R. Salas,
Secretary.

[FR Doc. E5-3951 Filed 7-25-05; 8:45 am]

BILLING CODE 6717-01-P